DEPARTMENT OF ENERGY

Federal Energy Regulatory Commission

[Docket No. EC03-76-000, et al.]

Williams Energy Marketing & Trading Company Progress Ventures, Inc., et al.; Electric Rate and Corporate Filings

April 24, 2003.

The following filings have been made with the Commission. The filings are listed in ascending order within each docket classification.

1. Williams Energy Marketing & Trading Company Progress Ventures, Inc.

[Docket No. EC03-76-000]

Take notice that on April 22, 2003, Williams Energy Marketing and Trading (Williams EMT) and Progress Ventures, Inc. (Progress Ventures), filed with the Federal Energy Regulatory Commission an affidavit regarding a competitive study to supplement their application filed April 5, 2003, pursuant to Section 203 of the Federal Power Act and a request for expedited approval of a proposed transaction whereby Williams EMT will assign its interest in a Power Supply and Energy Call Agreement between Williams EMT and Jackson Electric Membership Corporation (Jackson EMC) Progress Ventures.

Williams EMT states that copies of the public version of this filing were served upon the Georgia Public Service Commission and Jackson EMC.

Comment Date: May 6, 2003.

2. Mirant Americas Energy Marketing, L.P., Mirant New England, LLC, Mirant Kendall, LLC and, Mirant Canal, LLC v. ISO New England Inc.

[Docket No. EL01-93-008]

Take notice that on April 22, 2003, ISO New England Inc., pursuant to the Commission's Order in Docket Nos. EL01-93-005 and EL01-93-006, 103 FERC ¶61,018, filed with the Federal Energy Regulatory Commission an unredacted and non-confidential versions of the mitigation agreements previously filed with the Commission on February 25, 2002.

ISO New England states that copies of said filing have been served upon all parties to this proceeding, and upon New England Power Pool (NEPOOL) Participants, as well as upon the utility regulatory agencies of the six New England States which comprise the NEPOOL Control Area.

Comment Date: May 22, 2003.

3. Athens Generating Company, L.P., Covert Generating Company, LLC, Harquahala Generating Company, LLC and Millennium Power Partners, L.P.

[Docket Nos. ER99-4282-003, ER01-520-003, ER01-748-003 and ER98-830-007]

Take notice that on April 21, 2003, Athens Generating Company, L.P., Covert Generating Company, LLC, Harquahala Generating Company, LLC, and Millennium Power Partners, L.P., filed with the Commission a Notice of Withdrawal of their November 18, 2002 Notice of Change in Status, under section 205 of the Federal Power Act.

Comment Date: May 12, 2003.

4. Entergy Services, Inc.

[Docket No. ER02-2014-011]

Take notice that on April 18, 2003, as supplemented on April 21, 2003, Entergy Services, Inc., (Entergy) tendered for filing a First Inforrmational Report Entergy's implementation of the Generator Operating Limits as required by the Commission's Order issued March 13, 2003 in Docket No. ER02-2014-006.

Comment Date: May 9, 2003.

5. New York Independent System Operator, Inc.

[Docket No. ER03-303-002]

Take notice that on April 21, 2003, the New York Independent System Operator, Inc. (NYISO) submitted a compliance filing in response to the Commission's March 13, 2003 Order in Docket Nos. ER03-303-000 and ER03-303-001.

The NYISO states that it has served a copy of this filing upon all parties that have executed service agreements under the NYISO's OATT and Services Tariff.

Comment Date: May 12, 2003.

6. PJM Interconnection, L.L.C.

[Docket No. ER03-406-003]

Take notice that on April 22, 2003, PJM Interconnection, L.L.C., (PJM) amended its April 11, 2003 compliance filing in Docket ER03-406-002, regarding PJM's new Financial Transmission auction process. PJM states that this amended filing is necessary to include inadvertently omitted revised sheets of the Amended and Restated Operating Agreement of PJM Interconnection L.L.C., and a corrected page of the PJM Open Access Transmission Tariff.

PJM states that copies of this filing were served upon each person designated on the Commission's official service list in this proceeding, all PJM members, and each state electric utility commission in the PJM region.

Comment Date: May 13, 2003.

7. Minnesota Power

[Docket No. ER03-475-002]

Take notice that on April 21, 2003, Minnesota Power tendered for filing cost information in support of the monthly charge for the City of Hibbing, Minnesota's use of Minnesota Power's substation equipment, as set forth in Rate Schedule FERC No. 136 for the City of Hibbing, Minnesota—Public Utilities Commission. Minnesota Power requests an effective date of January 1, 2003, the same date requested in its original filing in Docket ER03-475-000.

Comment Date: May 12, 2003.

8. PacifiCorp

[Docket No. ER03-545-001]

Take notice that on April 21, 2003, PacifiCorp tendered for filing, in accordance with 18 CFR 35 of the Commission's Rules and Regulations, an amended filing in further support of its February 19, 2003 filing of proposed unexecuted Umbrella Service Agreements with Conoco Inc.; J. Aron & Company; Reliant Energy; Portland General Electric; Pinnacle West; Sempra Energy Trading Corp.; UBS Warburg Energy; and Williams Energy Marketing & Trading Company; under PacifiCorp's market based rate tariff, FERC Electric Tariff, Third Revised Volume No. 12 (the Tariff).

PacifiCorp states that copies of this filing were supplied to Conoco Inc.; J. Aron & Company; Reliant Energy; Portland General Electric; Pinnacle West; Sempra Energy Trading Corp.; UBS Warburg Energy; Williams Energy Marketing & Trading Company; Utah Public Service Commission and the Public Utility Commission of Oregon.

Comment Date: May 12, 2003.

9. ISO New England Inc.

[Docket No. ER03-631-001]

Take notice that on April 22, 2003, ISO New England Inc., (ISO) filed with the Federal Energy Regulatory Commission an amendment to its March 18, 2003 filing of three Bid Mitigation Agreements between ISO New England and (1) Mirant Kendall, LLC; (2) PG&E Energy Trading—Power, L.P.; and (3) Devon Power LLC, Connecticut Jet Power LLC, Middletown Power LLC, Montville Power LLC, and Norwalk Harbor Power, LLC. ISO states that the amendment withdraws the ISO's request for confidential treatment of the filed agreements.

10. Alliant Energy Corporate Services, Inc.

[Docket No. ER03-762-000]

Take notice that on April 22, 2003, Alliant Energy Corporate Services, Inc., filed with the Federal Energy Regulatory Commission its market-based rate wholesale power sales tariff, FERC Electric Tariff Original Volume No. 2.

Comment Date: May 13, 2003.

11. Innovative Technical Services, L.L.C.

[Docket No. ER03-763-000]

Take notice that on April 21, 2003, Innovative Technical Services, L.L.C., (InTech-LLC) petitioned the Commission for acceptance of InTech-LLC Rate Schedule No. 1; the granting of certain blanket approvals, including authority to sell electricity at market-based rates; and the waiver of certain Commission regulations.

InTech-LLC states that it intends to engage in wholesale electric power and energy purchases and sales as a marketer. InTech-LLC indicates that it is not in the business of generating or transmitting electric power.

Comment Date: May 12, 2003.

12. Calpine Northbrook Energy Marketing, LLC

[Docket No. ER03-764-000]

Take notice that on April 21, 2003, Calpine Northbrook Energy Marketing, LLC tendered for filing a proposed change to the Western Systems Power Pool Rate Schedule FERC No. 6 to reflect the admission of Calpine Northbrook Energy Marketing, LLC to membership in the Western Systems Power Pool Agreement.

Comment Date: May 12, 2003.

13. Calpine Oneta Power, L.P.

[Docket No. ER03-765-000]

Take notice that on April 22, 2003, Calpine Oneta Power, L.P., tendered for filing, under Section 205 of the Federal Power Act, a rate schedule for reactive power from the Oneta Energy Center.

Comment Date: May 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10694 Filed 4-30-03; 8:45 am]

BILLING CODE 6717-01-P